OFFICE OF THE UNITED STATES TRADE REPRESENTATIVE

Procedures for Consideration of New Requests for Exclusion of Particular Products From Actions With Regard to Certain Steel Products Under Section 203 of the Trade Act of 1974, as Established in Presidential Proclamation 7529 of March 5, 2002

AGENCY: Office of the United States Trade Representative.

ACTION: Notice.

SUMMARY: Presidential Proclamation 7529 of March 5, 2002 established actions under section 203 of the Trade Act of 1974, as amended, (19 U.S.C. 2253) (safeguard measures) with regard to certain steel products, and authorized the United States Trade Representative (USTR) to further consider requests for exclusion of particular products from the safeguard measure that had been submitted in accordance with a Federal Register notice published on October 26, 2001 (66 FR 54321). In a notice published on April 18, 2002 (67 FR 19307), USTR established procedures for further consideration of such requests and provided that, to the extent possible, it would consider new exclusion requests submitted after the time period specified in the notice of October 26, 2001. It asked interested persons requesting new exclusion requests to submit such requests by May 20, 2002. Subsequently, in a Federal Register notice published on May 21, 2002, (67 FR 35852), USTR indicated that it would announce a date for submitting objections to those new exclusion requests submitted by May 20, 2002. The process for submitting objections is described below.

DATES: For exclusion requests submitted on May 20, 2002, and posted on the USTR Web site on June 5, submit completed objector's questionnaires by 5:00 p.m. on June 19, 2002. For exclusion requests posted on subsequent dates, a date and time for submission of the objector's questionnaires will be posted on the USTR Web site.

FOR FURTHER INFORMATION CONTACT: Office of Industry, Office of the United States Trade Representative, 600 17th Street, NW, Room 501, Washington DC 20508. Telephone (202) 395-5656.

SUPPLEMENTARY INFORMATION: On October 22, 2001, the U.S. International Trade Commission (ITC) issued affirmative determinations under section 202(b) of the Trade Act (22 U.S.C. 2252(b)) that (1) carbon and alloy steel slabs, plate (including cut-to-length plate and clad plate), hot-rolled sheet and strip (including plate in coils), cold-rolled sheet and strip (other than grain-oriented electrical steel), and corrosion-resistant and other coated sheet and strip; (2) carbon and alloy hot-rolled bar and light shapes; (3) carbon and alloy cold-finished bar; (4) rebar; (5) carbon and alloy welded tubular products (other than oil country tubular goods); (6) carbon and alloy flanges, fittings, and tool joints; (7) stainless steel bar and light shapes; and (8) stainless steel rod are being imported in such increased quantities as to be a substantial cause of serious injury, or the threat thereof, to the domestic industries producing those products. The Commissioners voting were equally divided with respect to the determination under section 202(b) of the Trade Act as to whether increased imports of (9) carbon and alloy tin mill products; (10) tool steel, all forms; (11) stainless steel wire; and (12) stainless steel flanges and fittings are being imported in such increased quantities as to be a substantial cause of serious injury, or the threat thereof, to the domestic industries producing those products.

On March 5, 2002, the President issued Proclamation 7529, which established safeguard measures in the form of increases in duty and a tariff-rate quota pursuant to section 203 of the Trade Act on imports of the ten steel products described in paragraph 7 of that proclamation. Effective with respect to goods entered, or withdrawn from warehouse for consumption, on or after 12:01 a.m., EST, on March 20, 2002, Proclamation 7529 modified the HTS so as to provide for such increased duties and a tariff-rate quota. Proclamation 7529 also authorized the USTR to further consider requests for the exclusion of particular products and, upon publication in the Federal Register of his finding that a particular product should be excluded, to modify the HTS provisions created by the Annex to that proclamation to exclude such particular product from the pertinent safeguard measure.

On April 18, 2002, USTR published a notice in the Federal Register informing interested persons that, to the extent possible, USTR would consider new requests for exclusion of products. It asked interested persons requesting the exclusion of such a product to respond to an exclusion requester's questionnaire by May 20, 2002, and indicated that procedures for submitting such additional requests for exclusion would be announced in a subsequent Federal Register notice.

USTR posted procedures for requesting new exclusions on its Web site, along with a new requester's questionnaire, and instructed interested persons to submit any requests by May 20, 2002. In a Federal Register notice published on May 21, 2002 (67 FR 35842), USTR indicated that interested persons objecting to these new exclusion requests should submit a new objector's questionnaire by a date to be announced later. We will post short descriptions of the products covered by the new exclusion requests on the USTR Web site, www.ustr.gov, in groups. The first group will be posted by June 5, 2002. Any interested person wishing to object to the exclusion of a product in this group, or otherwise comment on the product descriptions, should do so by 5:00 p.m. on June 19. Additional groups will be subsequently posted on the USTR Web site, along with an indication of the date and time for submission of objector's questionnaires.

Each request will be evaluated on a case-by-case basis. USTR will grant only those exclusions that do not undermine the objectives of the safeguard measures. In analyzing the requests, USTR will consider whether the product is currently being produced in the United States, whether substitution of the product is possible, whether qualification requirements affect the requester's ability to use domestic products, inventories, whether the requested product is under development by a U.S. producer who will imminently be able to produce it in commercial quantities and any other relevant factors. Where necessary, USTR and/or the Commerce Department will meet with interested persons to discuss the information that was submitted and/or to gain additional information.

Every effort will be made to process requests as soon as possible consistent with the availability of resources and the quality of information that is received.

Interested persons should follow the instructions posted on the USTR and Commerce Department Web sites at http://ia.ita.doc.gov/steel/exclusion/. Failure to follow the instructions posted there may result in rejection of the questionnaire submission.

We strongly discourage the submission of business confidential information. Any questionnaire response that contains business confidential information must be accompanied by six copies of a public summary that does not contain business confidential information, and a diskette containing an electronic version of the public summary. Any paper submission and diskette containing business confidential information must be clearly marked “Business Confidential” at the top and bottom of the cover page (or letter) and each succeeding page of the submission, and on the label of the diskette. The version that does not contain business confidential information should also be clearly marked, at the top and bottom of each page, “public version” or “nonconfidential,” and on the label of the diskette.

Paperwork Reduction Act

This notice contains a collection of information provision subject to the Paperwork Reduction Act (PRA) that the Office of Management and Budget (OMB) has approved. Notwithstanding any other provision of law, no person is required to respond to nor shall a person be subject to a penalty for failure to comply with a collection of information subject to the requirements of the PRA unless that collection of information displays a currently valid OMB number. This notice's collection of information burden is only for those persons who wish voluntarily to object to a request for the exclusion of a product from the safeguard measures. USTR has submitted the new objector's questionnaire to OMB for approval under the Paperwork Reduction Act. It is expected that the collection of information burden will be no more than 11 hours per questionnaire and we estimate the submission of approximately 800 questionnaires. This collection of information contains no annual reporting or record keeping burden. Please send comments regarding the collection of information burden or any other aspect of the information collection to USTR at the address above.

Robert B. Zoellick,
United States Trade Representative.

[FR Doc. 02-14232 Filed 6-3-02; 2:41 pm]

BILLING CODE 3190-01-P